FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 6, 2016.

A. Federal Reserve Bank of St. Louis (David L. Hubbard, Senior Manager) P.O. Box 442, St. Louis, Missouri 63166-2034. Comments can also be sent electronically to Comments.applications@stls.frb.org:

1. Jeffrey Harris Lowery, M.D., Eads, Tennessee; to acquire more than 10 percent of the shares of Germantown Capital Corporation, Inc., and thereby indirectly control more than 10 percent of the voting shares of First Capital Bank, both in Germantown, Tennessee.

Board of Governors of the Federal Reserve System, November 16, 2016.
Yao-Chin Chao,
Assistant Secretary of the Board.

[FR Doc. 2016-27956 Filed 11-18-16; 8:45 am]

BILLING CODE 6210-01-P